DEPARTMENT OF HOMELAND SECURITY

Public Affairs; Submission for Emergency Processing for Ready for Kids Mascot Naming Contest

AGENCY: Public Affairs, DHS.

ACTION: Notice; request for comments; correction.

SUMMARY: On July 26, 2004, the Department of Homeland Security (DHS) published a Federal Register notice advising the public that DHS would submit an information collection request to the Office of Management and Budget (OMB) pursuant to the Paperwork Reduction Act of 1995, for the Ready for Kids Mascot Naming Contest.

This notice corrects the July 26, 2004 notice. The Ready for Kids Mascot Naming Contest is not subject to Paperwork Reduction Act (PRA) requirements.

FOR FURTHER INFORMATION CONTACT: Lara Shane at 202-282-8010 (this is not a toll free number).

SUPPLEMENTARY INFORMATION: On July 26, 2004, DHS published a notice in the Federal Register stating that DHS would submit a new information collection request (ICR) to OMB pursuant to the PRA and estimating burden hours associated with that request.

Under the Paperwork Reduction Act of 1995 (PRA) (44 U.S.C. 3501-3520), a Federal agency must obtain approval from OMB for each collection of information it conducts, sponsors, or requires through regulations. This information collection, does not meet the definition of “information collection” as defined under 5 CFR part 1320, and is therefore exempt from the requirements of the PRA. Accordingly, there is no requirement to obtain OMB approval for this information collection, as previously stated and reported in the federal notice published July 26, 2004.

The July 26, 2004 Federal Register notice published contained incorrect information regarding the frequency of information collection, estimated time per respondent, total burden hours, and the description for the collection. As noted, the submission of information is exempt from PRA. The corrections are as follows:

Frequency: One-time.

Estimated Time Per Respondent: 15 minutes per response.

Total Burden Hours: 125 hours.

Please note the description was also amended for clarity.

Description: The Department of Homeland Security is launching an expansion of the Ready campaign, called Ready for Kids, designed for children grades 4-8. As part of Ready for Kids, the Department of Homeland Security will conduct a “name the mascot” contest.

Dated: July 27, 2004.
Steve Cooper,
Chief Information Officer.

[FR Doc. 04-17536 Filed 7-30-04; 8:45 am]

BILLING CODE 4410-10-P